OFFICE OF THE UNITED STATES TRADE REPRESENTATIVE

2022 Tariff Rate Quota Quantity Limitations Under the U.S.-Australia Free Trade Agreement

AGENCY: Office of the United States Trade Representative.

ACTION: Notice.

SUMMARY: In accordance with the U.S.-Australia Free Trade Agreement entered into by the United States and the Commonwealth of Australia and the Harmonized Tariff Schedule of the United States (HTSUS), the Office of the United States Trade Representative (USTR) is providing notice of tariff-rate quota quantity limitations of certain tariff subheadings.

DATES: This notice is applicable as of January 1, 2022.

FOR FURTHER INFORMATION CONTACT: Joan Hurst, Office of Agricultural Affairs, at (202) 395-6117 or Joan_Hurst@ustr.eop.gov.

SUPPLEMENTARY INFORMATION: Pursuant to section 201 of the United States-Australia Free Trade Agreement Implementation Act (Pub. L. 108-286; 118 Stat. 919) (19 U.S.C. 3805 note), Presidential Proclamation No. 7857 of December 20, 2004, and subchapter XIII of chapter 99 of the HTSUS, the Annex provides the quantitative limitations in 2022 of originating goods of Australia entering the United States under certain subheadings.

Annex

Effective with respect to originating goods of Australia, entered under the terms of general note 28 to the Harmonized Tariff Schedule of the United States (HTSUS), on or after January 1, 2022, and through the close of December 31, 2022, subchapter XIII of chapter 99 of the HTSUS is modified as follows:

1. U.S. note 4 is modified by inserting “2022” in numerical sequence in the column labeled “Year” and by inserting “20,196” in the column labeled “Quantity” opposite such year.

2. U.S. note 5 is modified by inserting “2022” in numerical sequence in the column labeled “Year” and by inserting “2,479” in the column labeled “Quantity” opposite such year.

3. U.S. note 6 is modified by inserting “2022” in numerical sequence in the column labeled “Year” and by inserting “165” in the column labeled “Quantity” opposite such year.

4. U.S. note 7 is modified by inserting “2022” in numerical sequence in the column labeled “Year” and by inserting “7,792” in the column labeled “Quantity” opposite such year.

5. U.S. note 8 is modified by inserting “2022” in numerical sequence in the column labeled “Year” and by inserting “4,040” in the column labeled “Quantity” opposite such year.

6. U.S. note 9 is modified by inserting “2022” in numerical sequence in the column labeled “Year” and by inserting “8,078” in the column labeled “Quantity” opposite such year.

7. U.S. note 10 is modified by inserting “2022” in numerical sequence in the column labeled “Year” and by inserting “8,022” in the column labeled “Quantity” opposite such year.

8. U.S. note 11 is modified by inserting “2022” in numerical sequence in the column labeled “Year” and by inserting “4,584” in the column labeled “Quantity” opposite such year.

9. U.S. note 12 is modified by inserting “2022” in numerical sequence in the column labeled “Year” and by inserting “1,302” in the column labeled “Quantity” opposite such year.

10. U.S. note 13 is modified by inserting “2022” in numerical sequence in the column labeled “Year” and by inserting “826” in the column labeled “Quantity” opposite such year.

11. U.S. note 15 is modified by inserting “2022” in numerical sequence in the column labeled “Year” and by inserting “1,146” in the column labeled “Quantity” opposite such year.

Julie Callahan,
Assistant U.S. Trade Representative for Agricultural Affairs and Commodity Policy, Office of the United States Trade Representative.

[FR Doc. 2022-19445 Filed 9-7-22; 8:45 am]

BILLING CODE 3290-F2-P